ENVIRONMENTAL PROTECTION AGENCY

40 CFR Part 81

[CA093-CORR; FRL-7516-9]

Correction of Designation of Areas for Air Quality Planning Purposes; California—PM-10 Nonattainment Areas

AGENCY: Environmental Protection Agency (EPA).

ACTION: Final rule; correcting amendment.

SUMMARY: This action corrects language in title 40 of the Code of Federal Regulations that was promulgated in final rules published in the Federal Register on August 6, 2002 and May 7, 2003.

EFFECTIVE DATE: This rule is effective on June 23, 2003.

SUPPLEMENTARY INFORMATION: On August 6, 2002 (67 FR 50805) and May 7, 2003 (68 FR 24368), EPA published final rulemaking actions approving redesignation requests of the California State Implementation Plan (SIP). Both of these actions contained amendments to the PM-10 table found in 40 CFR part 81, § 81.305.

The August 6, 2002 action omitted the designation and classification dates and types for a portion of San Bernardino County. The May 7, 2003 action failed to note the designation of the Indian Wells Valley planning area as attainment with an effective date.

With this action, we are also correcting the list of counties in the San Joaquin Valley Planning Area (SJVPA). The table will now contain all counties within the SJVPA in alphabetical order. The entry will now read: Fresno, Kern, Kings, Madera, Merced, San Joaquin, Stanislaus, and Tulare Counties.

Statutory and Executive Order Reviews

Under Executive Order 12866 (58 FR 51735, October 4, 1993), this action is not a “significant regulatory action” and is therefore not subject to review by the Office of Management and Budget. In addition, this action does not impose any enforceable duty or contain any unfunded mandate as described in the Unfunded Mandates Reform Act of 1995 (Public Law 104-4), or require prior consultation with State officials as specified by Executive Order 12875 (58 FR 58093, October 28, 1993), or involve special consideration of environmental justice related issues as required by Executive Order 12898 (59 FR 7629, February 16, 1994).

Because this action is not subject to notice-and-comment requirements under the Administrative Procedure Act or any other statute, it is not subject to the provisions of the Regulatory Flexibility Act (5 U.S.C. 601 et seq.).

Under 5 U.S.C. 801(a)(1)(A) as added by the Small Business Regulatory Enforcement Fairness Act of 1996, EPA submitted a report containing this rule and other required information to the U.S. Senate, the U.S. House of Representatives and the Comptroller General of the General Accounting Office prior to publication of this rule in today's Federal Register. This rule is not a “major rule” as defined by 5 U.S.C. 804(2).

List of Subjects in 40 CFR Part 81

Environmental protection, Air pollution control, National parks, Wilderness areas.

Dated: June 12, 2003.
Alexis Strauss,
Acting Regional Administrator, Region IX.

Part 81, chapter I, title 40 of the Code of Federal Regulations is amended as follows:

PART 81—[AMENDED]

1. The authority citation for part 81 continues to read as follows:

Authority: 42 U.S.C. 7401 et seq.

2. In § 81.305, the “California PM-10 table” is amended as follows:

a. By revising the entry for “San Bernardino County”; and

b. By revising the entry for “Fresno, Kern, Kings, Madera, Merced, San Joaquin, Stanislaus, and Tulare Counties.”

§ 81.305 California.

* * * * *

California-PM-10
Designated area | Designation: Date ¹ | Designation: Type | Classification: Date ¹ | Classification: Type
* * * * * * *
San Bernardino County:
San Bernardino (part): Excluding that portion located in the Trona planning area and excluding that portion located in the South Coast Air Basin | 1/20/1994 | Nonattainment | 1/20/1994 | Moderate.
Trona planning area: That portion of San Bernardino County contained within Hydrologic Unit #18090285 | 9/5/2002 | Nonattainment | 9/5/2002 | Moderate.
* * * * * * *
Fresno, Kern, Kings, Madera, Merced, San Joaquin, Stanislaus, Tulare Counties:
Indian Wells Valley planning area: That portion of Kern County contained within Hydrologic Unit #18090205 | 6/6/2003 | Attainment
* * * * * * *
¹ This date is November 15, 1990, unless otherwise noted.

[FR Doc. 03-15761 Filed 6-20-03; 8:45 am]

BILLING CODE 6560-50-P